EXPORT-IMPORT BANK OF THE UNITED STATES

Economic Impact Policy

This notice is to inform the public that the Export-Import Bank of the United States is in the process of reviewing its economic impact procedures. A draft of the proposed economic impact procedures can be accessed at the following location: http://www.exim.gov/products/policies/proposed-econ-impact-procedures.cfm.

The Bank is soliciting public comment on the draft document. Interested parties may submit comments on this document by email to economic.impact@exim.gov or by mail to 811 Vermont Avenue NW., Room 440, Washington, DC 20571, within 14 days of the date this notice appears in the Federal Register.

James C. Cruse,
Senior Vice President, Policy and Planning.

[FR Doc. 2012-23866 Filed 9-26-12; 8:45 am]

BILLING CODE 6690-01-P